COMMITTEE FOR THE IMPLEMENTATION OF TEXTILE AGREEMENTS

Removing a Limit on Imports of Combed Cotton Yarn from Pakistan

November 8, 2001.

AGENCY: Committee for the Implementation of Textile Agreements (CITA).

ACTION: Issuing a directive to the Commissioner of Customs removing a limit on imports of combed cotton yarn, produced or manufactured in Pakistan.

EFFECTIVE DATE: November 9, 2001.

FOR FURTHER INFORMATION CONTACT: Ross Arnold, International Trade Specialist, Office of Textiles and Apparel, U.S. Department of Commerce, (202) 482-4212. For information on the quota status of this limit, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

In a notice published on December 31, 1998, the Government of the United States announced that it had requested consultations with the Government of Pakistan on combed cotton yarn in Category 301, produced or manufactured in Pakistan. (63 FR 72288) As no solution was agreed upon in consultations, the Government of the United States limited imports in this category for the twelve-month period beginning on March 17, 1999 and extending through March 16, 2000 at a level of 5,262,665 kilograms. (March 12, 1999 64 FR 12290) This limit was extended for a second year on March 14, 2000 (65 FR 14544) and for a third year on February 28, 2001 (66 FR 13307). Pakistan challenged this limit under the World Trade Organization (WTO) dispute settlement process and, on October 8, 2001, the WTO Appellate Body affirmed a dispute settlement panel decision that certain aspects of the U.S. determination to impose the limit were not consistent with the WTO Agreement on Textiles and Clothing. In the letter published below, the Chairman of CITA directs the Commissioner of Customs to remove the limit on combed cotton yarn in Category 301, produced or manufactured in Pakistan.

A description of the textile and apparel categories in terms of HTS numbers is available in the CORRELATION: Textile and Apparel Categories with the Harmonized Tariff Schedule of the United States (see Federal Register notice 65 FR 82328, published on December 28, 2000). Also see 65 FR 66972, published on November 8, 2000.

D. Michael Hutchinson,
Acting Chairman, Committee for the Implementation of Textile Agreements.

Committee for the Implementation of Textile Agreements

November 8, 2001.

Commissioner of Customs,

Department of the Treasury, Washington, DC 20229.

Dear Commissioner: Pursuant to section 204 of the Agricultural Act of 1956, as amended (7 U.S.C. 1854); and Executive Order 11651 of March 30, 1972, as amended, CITA has decided that the limit on combed cotton yarn in Category 301 produced or manufactured in Pakistan should be removed. Therefore, you are directed, effective on November 9, 2001, to eliminate the limit for combed cotton yarn in Category 301, produced or manufactured in Pakistan.

The Committee for the Implementation of Textile Agreements has determined that this action falls within the foreign affairs exception of the rulemaking provisions of 5 U.S.C. 553(a)(1).

Sincerely,

D. Michael Hutchinson,

Acting Chairman, Committee for the Implementation of Textile Agreements.

[FR Doc. 01-28504 Filed 11-08-01; 1:19 pm]

BILLING CODE 3510-DR-S